DEPARTMENT OF ENERGY

Environmental Management Site-Specific Advisory Board, Nevada; Correction

AGENCY: Department of Energy.

ACTION: Notice of open meeting: Correction

SUMMARY: On February 24, 2011, the Department of Energy (DOE) published a notice announcing a meeting of the Environmental Management Site-Specific Advisory Board, Nevada to be held on March 9, 2011 (76 FR 10343). This document makes several corrections to that notice.

FOR FURTHER INFORMATION CONTACT: Denise Rupp, Board Administrator, 232 Energy Way, M/S 505, North Las Vegas, Nevada 89030. Phone: (702) 657-9088; Fax (702) 295-5300 or E-mail: ntscab@nv.doe.gov.

Corrections

In the Federal Register of February 24, 2011, in FR Doc. 2011-4148, on page 10343, please make the following corrections:

Under DATES, third column, first paragraph, the meeting date has been changed. The new date is March 16, 2011.

Under ADDRESSES, third column, second paragraph, the meeting address has been changed. The new address is the Sun City Aliante Community Center, 7394 Aliante Parkway, North Las Vegas, Nevada 89084.

Under Tentative Agenda, third column, there has been an additional topic added. The additional topic is DOE Draft Environmental Impact Statement (EIS) for the Disposal of Greater-Than-Class C (GTCC) Low-Level Radioactive Waste and GTCC-Like Waste (Draft EIS, DOE/EIS-0375D) Update.

Issued at Washington, DC, on March 1, 2011.
LaTanya Butler,
Acting Deputy Committee Management Officer.

[FR Doc. 2011-5050 Filed 3-4-11; 8:45 am]

BILLING CODE 6450-01-P